ENVIRONMENTAL PROTECTION AGENCY

[FRL-10242-01-OA]

Local Government Advisory Committee and Small Communities Advisory Subcommittee: Request for Nominations

AGENCY: Environmental Protection Agency (EPA).

ACTION: Notice of request for nominations.

SUMMARY: The U.S. Environmental Protection Agency's (EPA) Office of Intergovernmental Relations invites nominations from a diverse range of qualified candidates to be considered for appointment to its Local Government Advisory Committee (LGAC) and Small Communities Advisory Subcommittee (SCAS). Qualified nominees for the LGAC and SCAS hold elected positions with local, tribal, state, or territorial governments, or serve in a full-time government position appointed by an elected official. This notice solicits nominations to fill up to 10 positions on EPA's LGAC and up to 6 positions on the SCAS, for terms beginning in January 2023 and lasting one or two years. For more information on the LGAC/SCAS, including recent meeting summaries and recommendations, visit: https://www.epa.gov/ocir/local-government-advisory-committee-lgac.

DATES: To be considered for 2023 appointments, nominations should be submitted by October 31, 2022.

How to Apply: Submit nominations electronically to LGAC@epa.gov with a subject heading of `LGAC 2023 NOMINATION' and complete the form at http://tiny.cc/hcezuz.

FOR FURTHER INFORMATION CONTACT: Paige Lieberman, the LGAC Designated Federal Officer at (202) 564-9957/LGAC@epa.gov.

SUPPLEMENTARY INFORMATION:

Qualifications

The Local Government Advisory Committee (LGAC) is chartered under the Federal Advisory Committee Act (FACA), Public Law 92-463, to advise the EPA Administrator on environmental issues impacting local governments. The Small Communities Advisory Subcommittee (SCAS) is the LGAC's standing subcommittee to advise on issues of concern to smaller communities. Members of LGAC and SCAS will provide advice and recommendations on a broad range of issues related to promoting and protecting public health and the environment. For 2023 the topics addressed will include but not be limited to:

• Advancing environmental justice;

• Developing capacity for technical assistance at the local level;

• Reducing greenhouse gas emissions;

• Bolstering resilience to the impacts of climate change;

• Enhancing the infrastructure needed to provide drinking water and wastewater services;

• Supporting local governments in the assessment and remediation of PFAS chemicals.

Viable candidates must be current elected officials representing local, state, tribal, or territorial governments. Officials working full-time for a local, state, tribal, or territorial government who have been appointed directly by an elected official will also be considered. Preference will be given to qualified candidates who demonstrate experience developing and implementing environmental programs consistent with the 2023 topics listed above. To maintain geographical diversity of the Committee, preference for LGAC membership may also be given to qualified candidates from tribal governments, and states in the South and Southeastern regions of the country; preference for SCAS membership may be given to qualified candidates from Alaska, New England and the Pacific Northwest.

Additional criteria to be considered may include: experience with multi-sector partnerships; coalition-building and grassroots involvement; involvement and leadership in national, state or regional intergovernmental associations; and diversity in vocational/career/volunteer background.

Candidates may apply for both LGAC and SCAS appointments, regardless of community size. While qualified candidates for the SCAS may include individuals from larger communities, preference will be given to those representing populations of 10,000 or less.

Time Commitment

LGAC members are appointed for 1 or 2-year terms, depending on the needs of the Committee, and are eligible for reappointment up to a total of 6 years served. In 2023, the Committee plans to hold two or three full-day, public meetings, where both in-person and online participation options will be available.

In addition to public meetings, Workgroups will be created to address the 2023 topics noted above, as well as any emerging issues. Members will be encouraged to serve on one or more Workgroups, where they will be asked to share their experiences working on an issue, recommend experts on an issue for the Committee to consult with, debate the nuances of policy implementation, and review written recommendations before they are shared with the full Committee. Applicants should plan to spend an average of three hours per month on Committee work, with more requested when travel is planned. While EPA is unable to provide compensation for services, official Committee travel and related expenses (lodging, etc.) will be fully reimbursed.

Nominations

Nominations must be submitted in electronic format. To be considered, all nominations should complete the application at this link: http://tiny.cc/hcezuz.

Additionally, please email LGAC@epa.gov with the following:

• Resume and/or short biography (no more than 2 pages) describing professional, educational, and other pertinent qualifications of the nominee, including a list of relevant activities as well as any current or previous service on advisory committees; and,

• Optional letter(s) of recommendation from a third party (or parties) supporting the nomination. Letter(s) should describe how the nominee's experience and knowledge will bring value to the work of the LGAC.

Other sources, in addition to this Federal Register notice, may be utilized in the solicitation of nominees. EPA expressly values diversity, equity, and inclusion, and encourages the nominations of elected and appointed officials from diverse backgrounds so that the LGAC and SCAS look like America and reflect the country's rich diversity. Individuals may self-nominate.

Dated: September 26, 2022.
Paige Lieberman,
EPA Designated Federal Office, Local Government Advisory Committee.

[FR Doc. 2022-21491 Filed 10-3-22; 8:45 am]

BILLING CODE 6560-50-P